DEPARTMENT OF THE INTERIOR

Bureau of Land Management

[LLORV00000.L18200000. XZ0000. LXSS020H0000. 19X.HAG 19-0060]

Change of Hours of Operation for the Lakeview Interagency Office, Oregon

AGENCY: Bureau of Land Management, Interior.

ACTION: Notice of change in office hours.

SUMMARY: The Lakeview Interagency Office, which includes the Bureau of Land Management Lakeview District Office and the Fremont-Winema National Forest Supervisor's Office, will implement new hours of operation, weekdays, excluding Federal holidays, from 8:00 a.m. to 4:30 p.m. The hours of operation for all other Lakeview BLM Offices will not change.

DATES: The new hours of operation take effect on July 1, 2019.

ADDRESSES: The Lakeview Interagency Office is located at 1301 S G St., Lakeview, OR 97630.

FOR FURTHER INFORMATION CONTACT: Seana Lammers, Administrative Officer, 1301 S G St., Lakeview, Oregon 97630; telephone: 541-947-6202; email: seanamlammers@fs.fed.us. Persons who use a telecommunications device for the deaf (TDD) may call the Federal Relay Service (FRS) at 1-800-877-8339 to contact the above individual during normal business hours. The FRS is available 24 hours a day, 7 days a week, to leave a message or question. You will receive a reply during normal business hours.

SUPPLEMENTARY INFORMATION: This change is intended to better serve the public—based on a long-term review of calls received and the number of public visits between 7:45 and 8 a.m.—and to improve staffing efficiency.

(Authority: 43 CFR 1821.11)

Todd Forbes,
Lakeview District Manager.

[FR Doc. 2019-13088 Filed 6-20-19; 8:45 am]

BILLING CODE 4310-33-P.